DEPARTMENT OF TRANSPORTATION

National Highway Traffic Safety Administration

49 CFR Part 571

[Docket No. NHTSA-2010-0132]

RIN 2127-AK17

Federal Motor Vehicle Safety Standards; New Pneumatic Tires for Motor Vehicles With a GVWR of More Than 4,536 Kilograms (10,000 Pounds) and Motorcycles

AGENCY: National Highway Traffic Safety Administration (NHTSA), Department of Transportation.

ACTION: Supplemental notice of proposed rulemaking (SNPRM).

SUMMARY: This document proposes several minor amendments to Federal Motor Vehicle Safety Standard (FMVSS) No. 119 to revise the formatting and replace a missing footnote in Table II. FMVSS No. 119 was amended in a final rule published on June 26, 2003 as part of a comprehensive upgrade of several FMVSSs to improve tire safety, as required by the Transportation Recall Enhancement, Accountability, and Documentation (TREAD) Act of 2000. The agency believes that this proposed revision is appropriate to correct minor oversights made in the June 2003 final rule for FMVSS No. 119.

DATES: Submit comments on or before March 11, 2013.

ADDRESSES: You may submit comments electronically to the docket identified in the heading of this document by visiting the following Web site:

• Federal eRulemaking Portal: Go to http://www.regulations.gov. Follow the online instructions for submitting comments.

Alternatively, you can file comments using the following methods:

• Mail: Docket Management Facility: U.S. Department of Transportation, 1200 New Jersey Avenue SE., West Building Ground Floor, Room W12-140, Washington, DC 20590-0001.

• Hand Delivery or Courier: West Building Ground Floor, Room W12-140, 1200 New Jersey Avenue SE., between 9 a.m. and 5 p.m. ET, Monday through Friday, except Federal holidays.

• Fax: (202) 493-2251.

Regardless of how you submit your comments, you should mention the docket number identified in the heading of this document.

Instructions: For detailed instructions on submitting comments and additional information on the rulemaking process, see the Public Participation heading of the Supplementary Information section of this document. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78).

Docket: For access to the docket to read background documents or comments received, go to http://www.regulations.gov. Follow the online instructions for accessing the dockets.

FOR FURTHER INFORMATION CONTACT: For technical issues, you may contact Abigail Morgan, Office of Crash Avoidance Standards (Telephone: 202-366-6005; Fax: 202-493-2990). For legal issues, you may contact David Jasinski, Office of the Chief Counsel (Telephone: 202-366-2992; Fax: 202-366-3820). You may send mail to both of these officials at the National Highway Traffic Safety Administration, 1200 New Jersey Avenue SE., Washington, DC 20590.

SUPPLEMENTARY INFORMATION:

I. Background

Federal Motor Vehicle Safety Standard (FMVSS) No. 119, New pneumatic tires for motor vehicles with a gross vehicle weight rating (GVWR) of more than 4,536 kilograms (10,000 pounds) and motorcycles, specifies tire performance requirements, including a strength test. When FMVSS No. 119 was established in 1973, it adopted the strength test from FMVSS No. 109.¹ The strength test in FMVSS No. 109, originally issued in 1967, was adopted from the Society of Automotive Engineers (SAE) Recommended Practice J918b—Passenger Car Tire Performance Requirements and Test Procedures (January 1967).2, 3 As part of the strength test, a plunger is driven into a tire. The tire must not be punctured before a minimum energy value is reached.

¹ See FMVSS No. 119 Proposed Motor Vehicle Safety Standard, 37 FR 13481 (Jul. 8, 1972).

² See FMVSS No. 109 Advance Notice of Proposed Rulemaking, 32 FR 2417 (Feb. 3, 1967).

³ SAE is an organization that develops voluntary standards for aerospace, automotive, and other industries. Many of SAE's recommended practices are developed using technical information supplied by vehicle manufacturers and automotive test laboratories.

The tire strength test was designed to evaluate the strength of the reinforcing materials in bias ply tires, typically rayon, nylon, or polyester, and it continues to serve a purpose for these tires. Today, bias tires have been almost completely replaced by radial tires in the U.S.; however, a small market for bias tires still remains.

The breaking energy requirements established in the SAE J918b tire strength test were higher for nylon and polyester cord tires than for rayon cord tires in order to ensure that the strength test stringency was comparable for different tire cord materials.⁴ As a result, when the FMVSS No. 119 strength test was established, Table II was accompanied by the note: “For rayon cord tires, applicable energy values are 60 percent of those in the table.” ⁵

⁴ See SAE Recommended Practice J918b—Passenger Car Tire Performance Requirements and Test Procedures (January 1967) Section 3.1.

⁵ FMVSS No. 119 Final Rule, 38 FR 31302 (Nov. 13, 1973).

In 1998, NHTSA revised FMVSS No. 119 by providing equivalent metric conversions to the standard's English measurements.⁶ The following sentence was added as a footnote to the table to explain the metric conversions stating: “J measurements are rounded down to the nearest whole number.”

⁶ See 68 FR 28912 (May 27, 1998).

In the 1998 notice, some errors were made in the Table II headings. The agency attempted to correct the headings in 2003; however, there were several issues with the reprinted Table II.⁷ Many of the minimum static breaking energy values were inadvertently omitted from the table. Additionally, the two footnotes were not printed with the table.

⁷ See 68 FR 38166 (Jun. 26, 2003).

In 2007, the headings and content of Table II were corrected in a Federal Register notice, but again the footnotes were not printed with the table.⁸

⁸ See 72 FR 49207 (Aug. 28, 2007). When Table II, as revised in 2007, was reprinted in the Code of Federal Regulations, the values in the table were printed incorrectly. The table was recently corrected in a Federal Register notice published on September 6, 2012. See 77 FR 54836.

In 2010, NHTSA issued a Notice of Proposed Rulemaking (NPRM) that proposed an upgrade to FMVSS No. 119.⁹ Although the agency proposed several technical corrections to FMVSS No. 119 in the 2010 NPRM, the NPRM did not include any changes to Table II.

⁹ 75 FR 60036 (Sept. 29, 2010).

II. Proposed Correction to Table II and Formatting Change

In May 2012, Continental Tire of the Americas (Continental) contacted NHTSA to inquire about the tire strength test requirements for rayon cord tires, because they noted the omission of the above-mentioned footnote in Table II, which specified a lower breaking energy requirement for rayon cord tires. After looking into Continental's question, NHTSA has determined that two footnotes for Table II of FMVSS No. 119 were inadvertently removed from the standard. Due to the length of time that has passed since the footnotes were removed in 2003, the agency decided to issue this Supplemental Notice of Proposed Rulemaking (SNPRM) to reinstate one of the footnotes. The other footnote does not need to be reinstated.

This SNPRM proposes to reinstate the missing footnote for Table II related to the breaking energy requirements for rayon cord tires, which reads as follows: “For rayon cord tires, applicable energy values are 60 percent of those in table.” This footnote was present in FMVSS No. 119 from when the standard was first issued in 1973 until it was inadvertently omitted in 2003.

The breaking energy requirement for rayon cord tires is less than other materials to make the severity of the test comparable to tires made of other cord materials. The breaking energy requirement for rayon cord tires for light vehicles in FMVSS No. 109 remain less than the requirement for nylon or polyester cord tires. The agency can determine whether a tire is composed of rayon cord from information that is required by S6.5(f) of FMVSS No. 119 to be molded on the tire's sidewall.

The agency is not proposing the replacement of the footnote for Table II related to rounding. When NHTSA added metric conversions to FMVSS No. 119 in 1998, the agency's principle for converting English system measurements to the metric system favored equivalent conversions, not exact ones.¹⁰ The footnote to Table II stating that measurements in joules were rounded down to the nearest whole number merely reflected this principle. The agency no longer believes that a footnote explaining the rounding procedure is necessary in the regulatory text.

¹⁰ 63 FR 28912.

The agency is also proposing three non-substantive formatting changes to Table II in this SNPRM. First, some of the headings have been revised to more clearly explain the tire characteristics. Second, the heading row alignment has been modified. Third, the order of the columns in the right portion of the table for tires other than light truck, motorcycle, and 12 rim diameter code or smaller has been modified to group tube type and tubeless tires together. The agency believes that these formatting changes will make Table II easier to read.

III. Technical Corrections

We have discovered an error in the descriptions of the formula for computing the breaking energy of a tire in metric located in S7.3(f) of FMVSS No. 119. In S7.3(f)(1), the breaking energy (W) is reported in joules (J); however, the explanation incorrectly states the unit abbreviation for joules as kJ, which is the abbreviation for kilojoules. In S7.3(f)(2), unit abbreviations are not included in the explanation and the breaking energy equation formatting is inconsistent with S7.3(f)(1). We are proposing to correct these errors.

IV. Public Participation

How do I prepare and submit comments?

Your comments must be written and in English. To ensure that your comments are correctly filed in the Docket, please include the docket number of this document in your comments.

Your comments must not be more than 15 pages long (49 CFR 553.21). We established this limit to encourage you to write your primary comments in a concise fashion. However, you may attach necessary additional documents to your comments. There is no limit on the length of the attachments.

Please submit your comments electronically to the docket following the steps outlined under ADDRESSES. You may also submit two copies of your comments, including the attachments, by mail to Docket Management at the beginning of this document, under ADDRESSES.

How can I be sure that my comments were received?

If you wish Docket Management to notify you upon its receipt of your comments, enclose a self-addressed, stamped postcard in the envelope containing your comments. Upon receiving your comments, Docket Management will return the postcard by mail.

How do I submit confidential business information?

If you wish to submit any information under a claim of confidentiality, you should submit the following to the NHTSA Office of Chief Counsel (NCC-110), 1200 New Jersey Avenue SE., Washington, DC 20590: (1) A complete copy of the submission; (2) a redacted copy of the submission with the confidential information removed; and (3) either a second complete copy or those portions of the submission containing the material for which confidential treatment is claimed and any additional information that you deem important to the Chief Counsel's consideration of your confidentiality claim. A request for confidential treatment that complies with 49 CFR part 512 must accompany the complete submission provided to the Chief Counsel. For further information, submitters who plan to request confidential treatment for any portion of their submissions are advised to review 49 CFR part 512, particularly those sections relating to document submission requirements. Failure to adhere to the requirements of Part 512 may result in the release of confidential information to the public docket. In addition, you should submit two copies from which you have deleted the claimed confidential business information, to Docket Management at the address given at the beginning of this document under ADDRESSES.

Will the agency consider late comments?

We will consider all comments that submitted to the docket before the close of business on the comment closing date indicated at the beginning of this notice under DATES. In accordance with our policies, to the extent possible, we will also consider comments received after the specified comment closing date. If we receive a comment too late for us to consider in developing the proposed rule, we will consider that comment as an informal suggestion for future rulemaking action.

How can I read the comments submitted by other people?

You may read the comments received on the Internet. To read the comments on the Internet, go to http://www.regulations.gov and follow the on-line instructions provided.

You may download the comments. The comments are imaged documents, in either TIFF or PDF format. Please note that even after the comment closing date, we will continue to file relevant information in the Docket as it becomes available. Further, some people may submit late comments. Accordingly, we recommend that you periodically search the Docket for new material.

You may also read the comments at the address and times given near the beginning of this document under ADDRESSES.

V. Rulemaking Analyses and Notices

A. Executive Order 12866, Executive Order 13563, and DOT Regulatory Policies and Procedures

NHTSA has considered the impact of this rulemaking action under Executive Order 12866, Executive Order 13563, and the Department of Transportation's regulatory policies and procedures. This rulemaking is not considered significant and was not reviewed by the Office of Management and Budget under E.O. 12866, “Regulatory Planning and Review.” The rulemaking action has also been determined not to be significant under the Department's regulatory policies and procedures.

This SNPRM would impose no costs upon tire manufacturers. If adopted, the changes proposed in this SNPRM would correct minor errors to Table II of FMVSS No. 119. These changes would impose no costs on manufacturers, nor do we expect that these changes would result in quantifiable benefits. For information on the costs and benefits of the proposed upgrade to FMVSS No. 119, please see the September 29, 2010 NPRM ¹¹ and the accompanying Preliminary Regulatory Evaluation.¹²

¹¹ 75 FR 60036.

¹² See Docket No. NHTSA-2010-0132-0002.

B. Other Rulemaking Analyses and Notices

For information on the Regulatory Flexibility Act, Executive Order 13132 (Federalism), the National Technology Transfer and Advancement Act, the Unfunded Mandates Reform Act, the National Environmental Policy Act, Executive Order 12988 (Civil Justice Reform), and the Paperwork Reduction Act, related to the agency's proposed upgrade to FMVSS No. 119, please see the September 29, 2010 NPRM.¹³ As this SNPRM proposes only to unintentional errors to Table II and make technical corrections, it will not have any effect on the agency's analysis in those areas.

¹³ 75 FR 60036.

C. Regulatory Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

D. Privacy Act

Anyone is able to search the electronic form of all comments received into any of our dockets by the name of the individual submitting the comment (or signing the comment, if submitted on behalf of an association, business, labor union, etc.). You may review DOT's complete Privacy Act Statement in the Federal Register published on April 11, 2000 (65 FR 19477-78).

List of Subjects in 49 CFR Part 571

Imports, Motor vehicle safety, Reporting and recordkeeping requirements, Tires.

In consideration of the foregoing, NHTSA proposes to amend 49 CFR part 571 as follows:

PART 571—FEDERAL MOTOR VEHICLE SAFETY STANDARDS

1. The authority citation for part 571 of Title 49 continues to read as follows:

Authority: 49 U.S.C. 322, 30111, 30115, 30117, and 30166; delegation of authority at 49 CFR 1.95.

2. Amend section 571.119 by revising paragraphs S7.3(f)(1), S7.3(f)(2) and Table II to read as follows:

§ 571.119 Standard No. 119; New pneumatic tires for motor vehicles with a GVWR of more than 4,536 kilograms (10,000 pounds) and motorcycles.

* * * * *

S7.3 * * *

(f) * * *

(1) W = [(F × P)/2] × 10−³

Where:

W = Breaking energy in joules (J),

F = Force in newtons (N), and

P = Penetration in millimeters (mm), or;

(2) W = (F × P)/2

Where:

W = Breaking energy in inch-pounds (in-lb),

F = Force in pounds (lb), and

P = Penetration in inches (in).

* * * * *

Table II—Minimum Static Breaking Energy
[Joules (J) and Inch-Pounds (in-lb)]
Tire characteristic: Plunger diameter (mm and inches) | Motorcycle: 7.94 mm | Motorcycle: 5/16″ | All 12 rim diameter code or smaller except motorcycle: 19.05 mm | All 12 rim diameter code or smaller except motorcycle: ¾″ | Tubeless 17.5 rim diameter code or smaller and light truck: 19.05 mm | Tubeless 17.5 rim diameter code or smaller and light truck: ¾″ | Tires other than light truck, motorcycle, 12 rim diameter code or smaller: Tube type greater than 12 rim diameter code: 31.75 mm | Tires other than light truck, motorcycle, 12 rim diameter code or smaller: Tube type greater than 12 rim diameter code: 1¼″ | Tires other than light truck, motorcycle, 12 rim diameter code or smaller: Tube type greater than 12 rim diameter code: 38.10 mm | Tires other than light truck, motorcycle, 12 rim diameter code or smaller: Tube type greater than 12 rim diameter code: 1½″ | Tires other than light truck, motorcycle, 12 rim diameter code or smaller: Tubeless greater than 17.5 rim diameter code: 31.75 mm | Tires other than light truck, motorcycle, 12 rim diameter code or smaller: Tubeless greater than 17.5 rim diameter code: 1¼″ | Tires other than light truck, motorcycle, 12 rim diameter code or smaller: Tubeless greater than 17.5 rim diameter code: 38.10 mm | Tires other than light truck, motorcycle, 12 rim diameter code or smaller: Tubeless greater than 17.5 rim diameter code: 1½″
Breaking energy | J | in-lb | J | in-lb | J | in-lb | J | in-lb | J | in-lb | J | in-lb | J | in-lb
Load Range:
A | 16 | 150 | 67 | 600 | 225 | 2,000 |  |  |  |  |  |  |  |
B | 33 | 300 | 135 | 1,200 | 293 | 2,600 |  |  |  |  |  |  |  |
C | 45 | 400 | 203 | 1,800 | 361 | 3,200 | 768 | 6,800 |  |  | 576 | 5,100 |  |
D |  |  | 271 | 2,400 | 514 | 4,550 | 892 | 7,900 |  |  | 734 | 6,500 |  |
E |  |  | 338 | 3,000 | 576 | 5,100 | 1,412 | 12,500 |  |  | 971 | 8,600 |  |
F |  |  | 406 | 3,600 | 644 | 5,700 | 1,785 | 15,800 |  |  | 1,412 | 12,500 |  |
G |  |  |  |  | 711 | 6,300 |  |  | 2,282 | 20,200 |  |  | 1,694 | 15,000
H |  |  |  |  | 768 | 6,800 |  |  | 2,598 | 23,000 |  |  | 2,090 | 18,500
J |  |  |  |  |  |  |  |  | 2,824 | 25,000 |  |  | 2,203 | 19,500
L |  |  |  |  |  |  |  |  | 3,050 | 27,000 |  |  |  |
M |  |  |  |  |  |  |  |  | 3,220 | 28,500 |  |  |  |
N |  |  |  |  |  |  |  |  | 3,389 | 30,000 |  |  |  |
Note: For rayon cord tires, applicable energy values are 60 percent of those in table.

* * * * *

Issued on: January 2, 2013.
Christopher J. Bonanti,
Associate Administrator for Rulemaking.

[FR Doc. 2013-00315 Filed 1-9-13; 8:45 am]

BILLING CODE 4910-59-P